DEPARTMENT OF TRANSPORTATION

Federal Railroad Administration

49 CFR Parts 209, 213, 214, 215, 216, 217, 218, 219, 220, 221, 222, 223, 224, 225, 227, 228, 229, 230, 231, 232, 233, 234, 235, 236, 237, 238, 239, 240, 241, 242, 243, 244, 270, and 272

[Docket No. FRA-2016-0021; Notice No. 3]

RIN 2130-AC59

Implementation of the Federal Civil Penalties Inflation Adjustment Act Improvements Act for a Violation of a Federal Railroad Safety Law, Federal Railroad Administration Safety Regulation or Order, or the Hazardous Material Transportation Laws or Regulations, Orders, Special Permits, and Approvals Issued Under Those Laws

AGENCY: Federal Railroad Administration (FRA), Department of Transportation.

ACTION: Final rule.

SUMMARY: On July 1, 2016, FRA published two interim final rules to comply with the Federal Civil Penalties Inflation Adjustment Act of 1990, as amended by the Federal Civil Penalties Inflation Adjustment Act Improvements Act of 2015. FRA received no comments in response to the interim final rules. This document confirms the July 1, 2016, interim final rules will not be changed and the effective date is August 1, 2016.

DATES: This final rule is effective April 13, 2017.

FOR FURTHER INFORMATION CONTACT: Veronica Chittim, Trial Attorney, Office of Chief Counsel, FRA, 1200 New Jersey Avenue SE., Mail Stop 10, Washington, DC 20590 (telephone 202-493-0273), veronica.chittim@dot.gov.

SUPPLEMENTARY INFORMATION: Because FRA received no comments on its interim final rules published July 1, 2016, we are making no changes to the rules and the effective date is August 1, 2016. For regulatory analyses and notices associated with this action, please see the interim final rules published at 81 FR 43105 and 81 FR 43101.

Accordingly, the interim final rules published at 81 FR 43105 and 81 FR 43101 on July 1, 2016, are adopted as final without change.

Patrick T. Warren,
Executive Director.

[FR Doc. 2017-07467 Filed 4-12-17; 8:45 am]

BILLING CODE 4910-06-P